NATIONAL FOUNDATION FOR THE ARTS AND THE HUMANITIES

National Endowment for the Arts; National Council on the Arts 143rd Meeting

Pursuant to section 10 (a) (2) of the Federal Advisory Committee Act (Public Law 92-463), as amended, notice is hereby given that a meeting of the National Council on the Arts will be held on July 19, 2001 from 2:00 p.m.-5:30 p.m. in Room 527 and on July 20, 2001 from 9:00 a.m. to 1:30 p.m. in Room M-09 at the Nancy Hanks Center, 1100 Pennsylvania Avenue, NW., Washington, DC 20506.

The Council will meet in closed session on July 19th, from 2:00 to 5:30 p.m. for discussion of National Medal of Arts nominations. In accordance with the determination of the Chairman of May 22, 2001, this session will be closed to the public pursuant to subsection (c)(4),(6) and (9)(B) of section 552b of Title 5, United States Code. The remainder of meeting, from 9:00 a.m. to 1:30 p.m. on July 20th, will be open to the public on a space available basis. Following opening remarks and announcements, there will be Congressional and budget updates and guest presentations on the theme “The Arts & Community Partnerships.” Guest presenters on Local & State Partnerships tentatively will be: Jonathan Katz (National Assembly of State Arts Agencies), Governor John Rowland (CT), Bob Lynch (Americans for the Arts), and Mayor Bart Peterson (Indianapolis). This will be followed by guest presentations by representatives of the Alabama Shakespeare Festival, New Orleans Video Access Center, and Village of Arts & Humanities. Other topics will include: Application Review for Leadership Initiatives and Policy Research & Analysis; review of Guidelines for Challenge America and New Public Works; and general discussion, including the Chairman's closing remarks.

If, in the course of the open session discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c) (6) of 5 U.S.C. 552b.

Any interested persons may attend, as observers, Council discussions and reviews that are open to the public. If you need special accommodations due to a disability, please contact the Office of AccessAbility, National Endowment for the Arts, 1100 Pennsylvania Avenue, NW., Washington, DC 20506, 202/682-5532, TTY-TDD 202/682-5429, at least seven (7) days prior to the meeting.

Further information with reference to this meeting can be obtained from the Office of Communications, National Endowment for the Arts, Washington, DC 20506, at 202/682-5570.

Dated: June 15, 2001.
Kathy Plowitz-Worden,
Panel Coordinator, Office of Guidelines and Panel Operations.

[FR Doc. 01-15588 Filed 6-20-01; 8:45 am]

BILLING CODE 7537-01-P